DEPARTMENT OF JUSTICE

Notice of Lodging of the “VEPCO” Proposed Consent Decree Under the Clean Air Act

Notice is hereby given that on April 21, 2003, a proposed Consent Decree (“proposed Decree”) in United States v. Virginia Electric and Power Co. (“VEPCO”), Civil Action No. 03-517-A, was lodged with the United States District Court for the Eastern District of Virginia.

In this civil enforcement action under the federal Clean Air Act (“Act”), the United States alleges that VEPCO—an electric utility—failed to comply with certain requirements of the Act intended to prevent deterioration of air quality. The complaint alleges that for some of the units at two of its coal-fired, energy generation stations—Mount Storm (located in northeastern West Virginia) and Chesterfield (located in Chesterfield County, Virginia)—VEPCO failed to seek permits prior to making major modifications to units at those stations and also failed to install appropriate pollution control devices to reduce emissions of air pollutants from units at those stations. The complaint seeks both injunctive relief and civil penalty.

The proposed Decree lodged with the Court addresses units at the Mount Storm and Chesterfield Stations as well as units at these other energy generation stations owned or operated by VEPCO: Bremo Power Station (in Fluvanna County, Virginia), Chesapeake Energy Center (near Chesapeake, Virginia), Clover Power Station (in Halifax County, Virginia), North Branch Power Station (in northeastern West Virginia), Possum Point Power Station (about 25 miles south of Washington, D.C.), and Yorktown Power Station (in Yorktown, Virginia).

The proposed Decree requires installation, upgrading, and operation of pollution control devices on a number of the units at these various VEPCO generation stations on a schedule running through 2012. Some of the control and emission requirements and conditions specified by the proposed Decree cover particular units while others address the aggregate performance of the units subject to the proposed Decree.

VEPCO also will carry out under the Decree a series of environmental mitigation projects. They are described in the proposed Decree and are valued at about $13.9 million. VEPCO also will pay the United States a civil penalty of $5.3 million.

Joining in the proposed Decree as co-plaintiffs are the States of New York, New Jersey, Connecticut, and West Virginia, as well as the Commonwealth of Virginia.

The Department of Justice will receive for a period of thirty (30) days from the date of this publication comments relating to the proposed Decree. Comments should be addressed to the Assistant Attorney General, Environment and Natural Resources Division, P.O. Box 7611, U.S. Department of Justice, Washington, DC 20044-7611, and should refer to, United States v. Virginia Electric and Power Co., D.J. Ref. 90-5-2-1-07122.

The proposed Decree may be examined at the offices of the United States Attorney, Eastern Division of Virginia, 2100 Jamieson Avenue, Alexandria, Virginia, and at the offices of U.S. EPA, Region 3, 1650 Arch Street, Philadelphia, PA 19103-2029.

During the public comment period, the proposed Decree may also be examined on the following Department of Justice Web site, http://www.usdoj.gov/enrd/open.html. A copy of the proposed Decree may also be obtained by mail from the consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $29.25 (25 cents per page reproduction cost) payable to the U.S. Treasury.

Thomas A. Mariani, Jr.,
Assistant Chief, Environmental Enforcement Section, Environment and Natural Resources Division.

[FR Doc. 03-12789 Filed 5-21-03; 8:45 am]

BILLING CODE 4410-15-M